DEPARTMENT OF COMMERCE

National Institute of Standards and Technology

Judges Panel of the Malcolm Baldrige National Quality Award

AGENCY: National Institute of Standards and Technology, Department of Commerce.

ACTION: Notice of partially closed meeting.

SUMMARY: The Judges Panel of the Malcolm Baldrige National Quality Award (Judges Panel) will meet in on Wednesday, June 8, 2016, from 9:00 a.m. to 3:30 p.m. Eastern time. The purpose of this meeting is to discuss and review the role and responsibilities of the Judges Panel and information received from the National Institute of Standards and Technology (NIST) in order to ensure the integrity of the Malcolm Baldrige National Quality Award (Award) selection process. The agenda will include: Judges Panel roles and processes; Baldrige Program updates; new business/public comment; lessons learned from the 2015 judging process; and the 2016 Award process. A portion of this meeting is closed to the public in order to protect both proprietary data to be examined and discussed and information that could significantly frustrate implementation of a proposed agency action.

DATES: The Judges Panel meeting will be held on Wednesday, June 8, 2016 from 9:00 a.m. until 3:30 p.m. Eastern time. The portion of the meeting, from 9:00 a.m. to 11:30 a.m., will include discussions on the Judges Panel roles and processes and Baldrige program updates. This session is open to the public. Please note admittance instructions under the SUPPLEMENTARY INFORMATION section of this notice. The portion of the meeting, from 12:30 p.m. to 3:30 p.m., will include discussions on lessons learned from the 2015 judging process and on the 2016 Award process. This session is closed to the public in order to protect both proprietary data to be examined and discussed and information that could significantly frustrate implementation of a proposed agency action.

ADDRESSES: The meeting will be held at the National Institute of Standards and Technology, Building 101, Lecture Room A, 100 Bureau Drive, Gaithersburg, Maryland 20899.

FOR FURTHER INFORMATION CONTACT: Robert Fangmeyer, Director, Baldrige Performance Excellence Program, National Institute of Standards and Technology, 100 Bureau Drive, Mail Stop 1020, Gaithersburg, Maryland 20899-1020, at telephone number (301) 975-2360, or by email at robert.fangmeyer@nist.gov.

SUPPLEMENTARY INFORMATION:

Authority: 15 U.S.C. 3711a(d)(1) and the Federal Advisory Committee Act, as amended, 5 U.S.C. App.

Pursuant to the Federal Advisory Committee Act, as amended, 5 U.S.C. App., notice is hereby given that the Judges Panel of the Malcolm Baldrige National Quality Award will meet on Wednesday, June 8, 2016 from 9:00 a.m. to 3:30 p.m. Eastern time. The Judges Panel is composed of twelve members, appointed by the Secretary of Commerce, chosen for their familiarity with quality improvement operations and competitiveness issues of manufacturing companies, services companies, small businesses, health care providers, and educational institutions. The Judges Panel will assemble to discuss and review the role and responsibilities of the Judges Panel and information received from NIST in order to ensure the integrity of the Malcolm Baldrige National Quality Award selection process. The agenda will include: Judges Panel roles and processes; Baldrige Program updates; new business/public comment; lessons learned from the 2015 judging process; and the 2016 Award process. A portion of this meeting is closed to the public in order to protect both proprietary data to be examined and discussed and information that could significantly frustrate implementation of a proposed agency action.

The portion of the meeting, from 9:00 a.m. to 11:30 a.m. Eastern time, will include discussions on the Judges Panel roles and processes and Baldrige program updates and is open to the public. Individuals and representatives of organizations who would like to offer comments related to the Judges Panel's general process are invited to request a place on the agenda. Approximately one-half hour will be reserved for public comments, and speaking times will be assigned on a first-come, first-served basis. The amount of time per speaker will be determined by the number of requests received, but is likely to be about 3 minutes each. The exact time for public comments will be included in the final agenda that will be posted on the Baldrige Performance Excellence Program Web site at http://www.nist.gov/baldrige/community/overseers.cfm. Questions from the public will not be considered during this period. Speakers who wish to expand upon their oral statements, those who had wished to speak, but could not be accommodated on the agenda, and those who were unable to attend in person are invited to submit written statements to the Baldrige Performance Excellence Program, Attention Nancy Young, National Institute of Standards and Technology, 100 Bureau Drive, Mail Stop 1020, Gaithersburg, Maryland 20899-1020, via fax at 301-975-4967 or electronically by email to nancy.young@nist.gov.

All visitors to the National Institute of Standards and Technology site will have to pre-register to be admitted. Please submit your name, time of arrival, email address and phone number to Nancy Young no later than 4:00 p.m. Eastern time, Thursday, June 2, 2016, and she will provide you with instructions for admittance. Non-U.S. citizens must submit additional information; please contact Nancy Young by email at nancy.young@nist.gov or by phone at (301) 975-2361. Also, please note that under the REAL ID Act of 2005 (Pub. L. 109-13), federal agencies, including NIST, can only accept a state-issued driver's license or identification card for access to federal facilities if issued by states that are REAL ID compliant or have an extension. NIST also currently accepts other forms of federal-issued identification in lieu of a state-issued driver's license. For detailed information please contact Ms. Young or visit: http://www.nist.gov/public_affairs/visitor/.

The portion of the meeting from 12:30 p.m. to 3:30 p.m. Eastern time, will include discussions on lessons learned from the 2015 judging process and on the 2016 Award process, and is closed to the public in order to protect both proprietary data to be examined and discussed and information that could significantly frustrate implementation of a proposed agency action. The Chief Financial Officer and Assistant Secretary for Administration, with the concurrence of the Assistant General Counsel for Administration and Transactions, formally determined on May 19, 2016, pursuant to Section 10(d) of the Federal Advisory Committee Act, as amended by Section 5(c) of the Government in Sunshine Act, Public Law 94-409, that a portion of the meeting of the Judges Panel may be closed to the public in accordance with 5 U.S.C. 552b(c)(4) because the meeting is likely to disclose trade secrets and commercial or financial information obtained from a person which is privileged or confidential and 5 U.S.C. 552b(c)(9)(B) because for a government agency the meeting is likely to disclose information that could significantly frustrate implementation of a proposed agency action. Portions of the meeting involve examination of prior year Award applicant data. Award applicant data are directly related to the commercial activities and confidential information of the applicants.

Kevin Kimball,
NIST Chief of Staff.

[FR Doc. 2016-12483 Filed 5-26-16; 8:45 am]

BILLING CODE 3510-13-P